NATIONAL SCIENCE FOUNDATION

National Science Board; Task Force on Cost Sharing; Committee on Strategy and Budget; Sunshine Act Meetings; Notice

The National Science Board's Task Force on Cost Sharing of the Committee on Strategy and Budget, pursuant to NSF regulations (45 CFR Part 614), the National Science Foundation Act, as amended (42 U.S.C. 1862n-5), and the Government in the Sunshine Act (5 U.S.C. 552b), hereby gives notice in regard to the scheduling of a meeting for the transaction of National Science Board business and other matters specified, as follows:

Date and Time: Thursday, December 20, 2007 at 5 p.m.

Subject Matter: 1. Update on Task Force Activities.

2. Review of Input on Cost Sharing Gathered to Date.

a. NSF ERC 2007 Annual Meeting Summary.

b. 2007 National NSF EPSCoR Meeting Summary.

c. Roundtable Discussion on Cost Sharing Summary.

3. Task Force Survey.

4. Drafting of Report to Congress.

5. Analysis of Additional Data from NSF (EPSCoR and ERC Programs & Other Detectable Impacts of 2004 Board Revision to NSF Cost Sharing Policy).

6. Plans and Topics for Future Task Force Workshops & Other Mechanisms for Gathering Input.

Status: Open.

Place: This meeting will be held by teleconference originating at the National Science Board Office, National Science Foundation, 4201 Wilson Blvd., Arlington, VA 22230. Room 110 will be available to the public to listen to this teleconference meeting.

Please refer to the National Science Board Web site (http://www.nsf.gov/nsb) for information or schedule updates, or contact: Jennifer Richards, National Science Board Office, 4201 Wilson Blvd., Arlington, VA 22230. Telephone: (703) 292-7000.

Russell Moy,
Attorney-Advisor.

[FR Doc. E7-24616 Filed 12-18-07; 8:45 am]

BILLING CODE 7555-01-P